NATIONAL AERONAUTICS AND SPACE ADMINISTRATION

[Notice 03-004]

U.S. Centennial of Flight Commission

AGENCY: National Aeronautics and Space Administration.

ACTION: Notice of meeting.

SUMMARY: In accordance with the Federal Advisory Committee Act, Public Law 92-463, as amended, the National Aeronautics and Space Administration announces a meeting of the U.S. Centennial of Flight Commission.

DATES: Wednesday, January 29, 2003, 1 p.m. to 4 p.m.

ADDRESSES: National Aeronautics and Space Administration, 300 E Street, SW., Room 5H46 (MIC 5), Washington, DC. Attendees must check in at the Security Desk and be escorted to the conference room.

FOR FURTHER INFORMATION CONTACT: Ms. Beverly Farmarco, Code IC, National Aeronautics and Space Administration, Washington, DC 20546, 202/358-1903.

SUPPLEMENTARY INFORMATION: The meeting will be open to the public up to the seating capacity of the room. The agenda for the meeting is as follows:

—Opening Remarks

—Highlights from Centennial Kick-Off Events

—Web Site Demo

—Aerospace Industries Association (AIA) National Model Rocket Competition

—North Carolina Status

—Next Quarterly Report

—Licensed Products Update

—Aviation Foundation of America's National Air Tours

—Closing Comments

It is imperative that the meeting be held on this date to accommodate the scheduling priorities of the key participants. Visitors will be requested to sign a visitor's register. Due to the increased security at NASA facilities, any members of the public who wish to attend this meeting of the Centennial of Flight Commission must provide their name, date and place of birth, citizenship, social security number, or passport and visa information (number, country of issuance and expiration), business address and phone number, if any. This information is to be provided at least 72 hours (5 p.m. e.d.t. on January 24, 2003) prior to the date of the public meeting. Identification information is to be provided to Beverly Farmarco, (202) 358-1903, bfarmarc@hq.nasa.gov. Failure to timely provide such information may result in denial of attendance. Photo identification may be required for entry into the building. Persons with disabilities who require assistance should indicate this in their message. Due to limited availability of seating, members of the public will be admitted on a first-come, first-serve basis. News media wishing to attend the meeting should follow standard accreditation procedures. Members of the press who have questions about these procedures should contact the NASA Headquarters newsroom (202/358-1600).

June W. Edwards,
Advisory Committee Management Officer, National Aeronautics and Space Administration.

[FR Doc. 03-1218 Filed 1-17-03; 8:45 am]

BILLING CODE 7510-01-P